SURFACE TRANSPORTATION BOARD

[Docket No. AB 55 (Sub-No. 762X)]

CSX Transportation, Inc.—Discontinuance of Service Exemption—in Boone County, WV

CSX Transportation, Inc. (CSXT), filed a verified notice of exemption ¹ under 49 CFR part 1152 subpart F—Exempt Abandonments and Discontinuances of Service to discontinue service over an approximately 9.0-mile rail line on its Southern Region, Huntington Division, Laurel Fork Subdivision, Engineering C&O Division, from CSXT's main line between milepost CLH 0.0 to the end of the line at milepost CLH 9.0 near Clothier, in Boone County, W. Va. (the Line). The Line traverses U.S. Postal Service Zip Codes 25114, 25021, and 25047, and includes the station of Ashely Kay at milepost CLH 7.3 (FSAC 81993/OPSL 65155.01), which CSXT states can be closed.

¹ CSXT initially filed the notice of exemption on May 20, 2016. By letter filed June 7, 2016, CSXT notified the Board that it had omitted a Zip Code from its notice and requested that the proceeding be held in abeyance. The Board granted CSXT's request to allow it to submit supplemental information, and on June 16, 2016, CSXT submitted amendments to the notice. Therefore, June 16, 2016 is considered the filing date and the basis for all dates in this notice.

CSXT has certified that: (1) No freight traffic has moved over the Line for at least two years; (2) because the Line is not a through line, no overhead traffic has operated or needs to be rerouted; (3) no formal complaint filed by a user of rail service on the Line (or by a state or local government entity acting on behalf of such user) regarding cessation of service over the Line is pending either with the Surface Transportation Board or any U.S. District Court or has been decided in favor of a complainant within the two-year period; and (4) the requirements at 49 CFR 1105.12 (newspaper publication) and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) to subsidize continued rail service has been received, this exemption will become effective on August 5, 2016, unless stayed pending reconsideration. Petitions to stay that do not involve environmental issues and formal expressions of intent to file an OFA to subsidize continued rail service under 49 CFR 1152.27(c)(2) ² must be filed by July 18, 2016.³ Petitions to reopen must be filed by July 26, 2016, with the Surface Transportation Board, 395 E Street SW., Washington, DC 20423-0001.

² Each OFA must be accompanied by the filing fee, which is currently set at $1,600. See 49 CFR 1002.2(f)(25).

³ Because CSXT is seeking to discontinue service, not to abandon the line, trail use/rail banking and public use conditions are not appropriate. Because there will be environmental review during abandonment, this discontinuance does not require an environmental review.

A copy of any petition filed with the Board should be sent to CSXT's representative: Louis E. Gitomer, Law Offices of Louis E. Gitomer, LLC, 600 Baltimore Avenue, Suite 301, Towson, MD 21204.

If the verified notice contains false or misleading information, the exemption is void ab initio.

Board decisions and notices are available on our Web site at “WWW.STB.DOT.GOV.”

Decided: June 30, 2016.
By the Board, Rachel D. Campbell, Director, Office of Proceedings.
Kenyatta Clay,
Clearance Clerk.

[FR Doc. 2016-15939 Filed 7-5-16; 8:45 am]

BILLING CODE 4915-01-P